DEPARTMENT OF TRANSPORTATION

Federal Aviation Administration

RTCA Government/Industry Air Traffic Management Advisory Committee

AGENCY: Federal Aviation Administration (FAA), DOT.

ACTION: Notice of RTCA Government/Industry Air Traffic Management Advisory Committee.

SUMMARY: The FAA is issuing this notice to advise the public of a meeting of RTCA Government/Industry Air Traffic Management Advisory Committee.

DATES: The meeting will be held December 4, 2008, from 1 p.m. to 4 p.m.

ADDRESSES: The meeting will be held at the Holiday Inn Capitol, Columbia II Ballroom, 550 C Street, SW., Corner of 6th & C Streets, SW., Washington, DC 20024. (Via Metro: L'Enfant Plaza Station, Use 7th & Maryland Exit).

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for the Air Traffic Management Advisory Committee meeting. The agenda will include:

• Opening Plenary (Welcome and Introductions).

• Assessment of New York 77 Initiatives.

• FAA Airspace Management Program Review.

• NextGen Integration and Implementation.

• Closing Plenary (Other Business, Establish 2009 Meeting Schedule, ATMAC Member Discussion, Adjourn).

Attendance is open to the interested public but limited to space availability. With the approval of the chairmen, members of the public may present oral statements at the meeting. Persons wishing to present statements or obtain information should contact the person listed in the “FOR FUTHER INFORMATION CONTACT” section. Members of the public may present a written statement to the committee at any time.

Issued in Washington, DC, on October 24, 2008.
Francisco Estrada C.,
RTCA Advisory Committee.

[FR Doc. E8-25939 Filed 10-29-08; 8:45 am]

BILLING CODE 4910-13-P